DEPARTMENT OF COMMERCE

Submission for OMB Review; Comment Request

DOC has submitted to the Office of Management and Budget (OMB) for clearance the following proposal for collection of information under the provisions of the Paperwork Reduction Act (44 U.S.C. chapter 35).

Agency: U.S. Census Bureau.

Title: Shipper's Export Declaration/Automated Export System.

Form Number(s): 7525-V, AES.

Agency Approval Number: 0607-0152.

Type of Request: Revision of a currently approved collection.

Burden: 814,140 hours.

Number of Respondents: 223,213.

Avg. Hours Per Response: SED—11 minutes; AES—3 minutes.

Needs and Uses: The current clearance under Office of Management and Budget (OMB) Number 0607-0152 covers the paper Shipper's Export Declaration (SED) 7525-V, and its electronic equivalent, the Automated Export System (AES) and related documents (e.g., Letter of Intent and AESDirect Registration and Certification). With this submission the U.S. Census Bureau (Census Bureau) is requesting continued clearance for the SED program.

The Census Bureau will accept the paper SED for only a limited period of time during the year 2005. This is due to the expected implementation of mandatory electronic filing of all export information. This requirement is mandated through Public Law 107-228, of the Foreign Relations Authorization Act of 2003.

This law authorizes the Secretary of Commerce with the concurrences of the Secretary of State and the Secretary of Homeland Security to require all persons who file export information according to Title 13, United States Code (U.S.C.), Chapter 9, to file such information through the AES. In June 2004 the Census Bureau and the U.S. Customs and Border Protection (CBP) implemented the redesign of the commodity module of the AES in anticipation of the implementation of the mandatory electronic reporting requirement. Since the implementation of the AES Commodity Redesign the following changes have taken place within the AES: Addition of the (1) Routed Transaction Indicator and the (2) Vehicle Identification Qualifier; and the removal of the (1) Waiver of Prior Notice and the (2) Date of Arrival indicators. Other changes that affect corporate business practices include the following: (1) Corrections must be performed with the “change” or “replace” functions rather than the “delete/add” functions; (2) use of new compliance alert conditions for late filings (3) changes to licensed or used vehicle shipments after departure; (4) commodity filing response messages that provide the text, identification, reason and resolution for conditional situations; (5) use of a verify condition message for sanctioned countries rather than the receipt of a warning message; (6) removal of the Internal Transaction Number (ITN) from the SC2 record for placement in the ES1 response message output record; and (7) inclusion of a severity indicator to the ES1 record. In addition to the changes, most warning error messages were converted to fatal errors. The revisions should not affect the average three-minute response time for the completion of the AES record. There will be no changes to the paper SED, therefore there is no expected change to the existing eleven-minute response time to complete this form.

The Census Bureau will allow the trade community to continue using the paper SED until the actual implementation of the mandatory electronic filing requirement occurs. This is expected later during the year 2005. Currently, the Census Bureau is involved in the rulemaking process that will notify the trade community of the mandatory requirement for electronic filing.

The SED form and its electronic equivalent the AES record provide the means for collecting data on U.S. exports. Title 13, U.S.C., Chapter 9, Sections 301-307, mandates the collection of these data. The regulatory provisions for the collection of these data are contained in the Foreign Trade Statistics Regulations, Title 15, Code of Federal Regulations (CFR), Part 30. The official export statistics collected from these tools provide the basic component for the compilation of the U.S. position on merchandise trade. These data are an essential component of the monthly totals on U.S. International Trade in Goods and Services, a principal economic indicator and primary component of the Gross Domestic Product (GDP).

The data collected from the SED and the AES record are also used for export control purposes under Title 50, U.S.C., Export Administration Act, to detect and prevent the export of certain items by unauthorized parties or to unauthorized destinations or end users.

Affected Public: Business or other for-profit.

Frequency: On occasion.

Respondent's Obligation: Mandatory.

Legal Authority: Title 13 U.S.C. Chapter 9; Title 15 CFR Part 30.

OMB Desk Officer: Susan Schechter, (202) 395-5103.

Copies of the above information collection proposal can be obtained by calling or writing Diana Hynek, Departmental Paperwork Clearance Officer, (202) 482-0266, Department of Commerce, room 6625, 14th and Constitution Avenue, NW., Washington, DC 20230 (or via the Internet at dhynek@doc.gov).

Written comments and recommendations for the proposed information collection should be sent within 30 days of publication of this notice to Susan Schechter, OMB Desk Officer either by fax (202-395-7245) or e-mail (susan_schechter@omb.eop.gov).

Dated: March 15, 2005.
Madeleine Clayton,
Management Analyst, Office of the Chief Information Officer.

[FR Doc. 05-5426 Filed 3-17-05; 8:45 am]

BILLING CODE 3510-07-P